CONSUMER PRODUCT SAFETY COMMISSION

Notice of Availability of Draft Guidance Regarding Which Children's Products Are Subject to the Requirements of CPSIA Section 108; Correction

AGENCY: Consumer Product Safety Commission.

ACTION: Notice; correction.

SUMMARY: The Consumer Product Safety Commission published a document in the Federal Register of February 23, 2009, concerning a request for comments on a Notice of Availability of Draft Guidance Regarding Which Children's Products are Subject to the Requirements of CPSIA Section 108. The document omitted a Web site link.

FOR FURTHER INFORMATION CONTACT: Todd Stevenson, 301-504-6836.

Correction

In the Federal Register of February 23, 2009, in FR Doc. E9-3808, on page 8060, in the third column, at the end of the sentence at paragraph O., correct the Web site link to read: Web site (http://www.cpsc.gov/about/cpsia/phthalatesop.pdf)

Dated: March 3, 2009.
Todd Stevenson,
Director, Office of the Secretary.

[FR Doc. E9-4947 Filed 3-6-09; 8:45 am]

BILLING CODE 6355-01-P